SECURITIES AND EXCHANGE COMMISSION

[Release No. 34-90427/November 13, 2020]

Securities Exchange Act of 1934

In the Matter of: Cboe Exchange, Inc., 400 South LaSalle Street, Chicago, IL 60605, File No. SR-CBOE-2018-060; Order Setting Aside the Order by Delegated Authority Approving SR-CBOE-2018-060

On August 16, 2018, Cboe Exchange, Inc. (“Exchange” or “Cboe”) filed with the Securities and Exchange Commission (“Commission”), pursuant to Section 19(b)(1) of the Securities Exchange Act of 1934 (“Exchange Act”) ¹ and Rule 19b-4 thereunder,² a proposed rule change to amend Rule 6.49A (Transfer of Positions). The proposed rule change was published for comment in the Federal Register on September 4, 2018.³ The Commission received no comments during the comment period.⁴ On October 16, 2018, the Division of Trading and Markets, for the Commission pursuant to delegated authority,⁵ approved the proposed rule change.⁶

¹ 15 U.S.C. 78s(b)(1).

² 17 CFR 240.19b-4.

³ See Securities Exchange Act Release No. 83968 (August 28, 2018), 83 FR 44938 (September 4, 2018) (SR-CBOE-2018-060).

⁴ Susquehanna International Group, LLP submitted a comment letter on October 19, 2018, three days after approval of the proposed rule change pursuant to delegated authority. See Letter from Richard J. McDonald, Regulatory Affairs, Susquehanna International Group, LLP, to Brent J. Fields, Secretary, Commission, dated October 19, 2018.

⁵ 17 CFR 200.30-3(a)(12).

⁶ See Securities Exchange Act Release No. 84437 (October 16, 2018), 83 FR 53336 (October 22, 2018) (SR-CBOE-2018-060) (“Delegated Order”).

On October 23, 2018, Susquehanna International Group, LLP submitted a notice of intention to petition the Delegated Order,⁷ and on October 30, 2018, Susquehanna International Group, LLP filed a petition for review of the Delegated Order.⁸

⁷ See Letter from Joseph C. Lombard, Murphy & McGonigle, as Counsel for Susquehanna International Group, LLP, to Brent J. Fields, Secretary, Commission, dated October 23, 2018, available at https://www.sec.gov/rules/sro/cboe/2018/srcboe2018060-intention-to-petition.pdf.

⁸ See In the Matter of the Petition of Susquehanna International Group, LLP (Petition for Review of Order Entered Pursuant to Delegated Authority Approving Amendments to Rule 6.49A by Cboe Exchange, Inc.) (October 30, 2018), available at https://www.sec.gov/rules/sro/cboe/2018/srcboe2018060-petition.pdf.

On February 11, 2019, Cboe withdrew the proposed rule change (SR-CBOE-2018-060).⁹

⁹ See Letter from Laura G. Dickman, Vice President, Associate General Counsel, Cboe Exchange, Inc., to Eduardo A. Aleman, Assistant Secretary, Commission, dated February 11, 2019, available at https://www.sec.gov/rules/sro/cboe/2019/cboe-2018-060-withdrawal.pdf.

Under Commission Rule of Practice 431(a), the Commission may “affirm, reverse, modify, set aside or remand for further proceedings, in whole or in part, any action made pursuant to” delegated authority.¹⁰ We find that, in light of Cboe's withdrawal of the proposed rule change, it is appropriate to set aside the Delegated Order.

¹⁰ 17 CFR 201.431(a).

Accordingly, it is ordered that the October 16, 2018 order approving by delegated authority Cboe's proposed rule change number SR-CBOE-2018-060, be, and it hereby is, set aside.

By the Commission.
J. Matthew DeLesDernier,
Assistant Secretary.

[FR Doc. 2020-25505 Filed 11-18-20; 8:45 am]

BILLING CODE 8011-01-P